DEPARTMENT OF THE INTERIOR

Minerals Management Service

30 CFR Part 250

RIN 1010-AC91

Oil and Gas and Sulphur Operations in the Outer Continental Shelf—Revision of Requirements Governing Outer Continental Shelf Rights-of-Use and Easement and Pipeline Rights-of-Way

AGENCY: Minerals Management Service (MMS), Interior.

ACTION: Correcting amendments.

SUMMARY: This document makes a correction to the final rule titled “Oil and Gas and Sulphur Operations in the Outer Continental Shelf—Revision of Requirements Governing Outer Continental Shelf Rights-of-Use and Easement and Pipeline Rights-of-Way” that was published December 12, 2003 (68 FR 69308). Incorrect cross-references are changed and the term “will” is employed in lieu of “shall.”

DATES: Effective on May 24, 2004.

FOR FURTHER INFORMATION CONTACT: Kumkum Ray, Regulations and Standards Branch at (703) 787-1604.

SUPPLEMENTARY INFORMATION:

Background

The final regulations that are the subject of this correction amended 30 CFR 250.160 and 30 CFR 250.1012.

Need for Correction

As published, the final regulations contained two references to 30 CFR 250.1009 (d), although the regulation now is numbered 30 CFR 250.1013. Moreover, § 250.1013 has no application to rights-of-use and easement.

List of Subjects in 30 CFR Part 250

Continental shelf, Environmental impact statements, Environmental protection, Government contracts, Incorporation by reference, Investigations, Mineral royalties, Oil and gas development and production, Oil and gas exploration, Oil and gas reserves, Penalties, Pipelines, Public lands-mineral resources, Public lands-rights-of-way, Reporting and recordkeeping requirements, Sulphur development and production, Sulphur exploration, Surety bonds.

Correction of Publication

Accordingly, 30 CFR Part 250 is corrected by making the following correcting amendments:

PART 250—OIL AND GAS AND SULPHUR OPERATIONS IN THE OUTER CONTINENTAL SHELF

1. The authority citation for part 250 continues to read as follows:

Authority: 43 U.S.C. 1331, et seq.

2. In § 250.160, paragraph (i) is revised to read as follows:

§ 250.160 When will MMS grant me a right-of-use and easement, and what requirements must I meet?

* * * * *

(i) Late payments. An interest charge will be assessed on unpaid and underpaid amounts from the date the amounts are due, in accordance with the provisions found in 30 CFR 218.54. If you fail to make a payment that is late after written notice from MMS, MMS may initiate cancellation of the right-of-use grant and easement.

3. In § 250.1012, paragraph (e) is revised to read as follows:

§ 250.1012 Required payments for pipeline right-of-way holders.

* * * * *

(e) Late payments. An interest charge will be assessed on unpaid and underpaid amounts from the date the amounts are due, in accordance with the provisions found in 30 CFR 218.54. If you fail to make a payment that is late after written notice from MMS, MMS may initiate cancellation of the right-of-use grant and easement under 30 CFR 250.1013.

Dated: May 17, 2004.
Rebecca W. Watson,
Assistant Secretary—Land and Minerals Management.

[FR Doc. 04-11666 Filed 5-21-04; 8:45 am]

BILLING CODE 4310-MR-P